FEDERAL COMMUNICATIONS COMMISSION

[Report No. 2697]

Petitions for Reconsideration of Action in Rulemaking Proceeding

DATE:

March 23, 2005

Petitions for Reconsideration have been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI)(1-800-378-3160). Oppositions to these petitions must be filed by April 21, 2005. See section 1.4(b)(1) of the Commission's rules (47 CFR 1.4(b)(1)). Replies to an opposition must be filed within 10 days after the time for filing oppositions have expired.

Subject:

In the Matter of Improving Public Safety Communications in the 800 MHz Band (WT Docket No. 02-55);

Consolidating the 800 and 900 MHz Industrial/Land Transportation and Business Pool Channels;

Amendment of Part 2 of the Commission's Rules to Allocate Spectrum Below 3 GHz for Mobile and Fixed Services to Support the Introduction of New Advanced Wireless Services, including Third Generation Wireless Systems (ET Docket No. 00-258);

Petition for Rulemaking of the Wireless Information Networks Forum Concerning the Unlicensed Personal Communications Service (RM-9498);

Petition for Rulemaking of UT Starcom, Inc., Concerning the Unlicensed Personal Communications Service (RM-10024);

Amendment of Section 2.106 of the Commission's Rules to Allocate Spectrum at 2 GHz for use by the Mobile Satellite Service (ET Docket No. 95-18)

Number of Petitions Filed: 6.

Marlene H. Dortch,
Secretary.

[FR Doc. 05-6807 Filed 4-5-05; 8:45 am]

BILLING CODE 6712-01-M